FEDERAL EMERGENCY MANAGEMENT AGENCY

[FEMA-1313-DR]

South Carolina; Amendment No. 3 to Notice of a Major Disaster Declaration

AGENCY: Federal Emergency Management Agency (FEMA).

ACTION: Notice.

SUMMARY: This notice amends the notice of a major disaster for the State of South Carolina, (FEMA-1313-DR), dated January 31, 2000, and related determinations.

EFFECTIVE DATE: February 18, 2000.

FOR FURTHER INFORMATION CONTACT: Madge Dale, Response and Recovery Directorate, Federal Emergency Management Agency, Washington, DC 20472, (202) 646-3772.

SUPPLEMENTARY INFORMATION: The notice of a major disaster for the State of South Carolina is hereby amended to include Road Systems (Category C) under Public Assistance for the following areas among those areas determined to have been adversely affected by the catastrophe declared a major disaster by the President in his declaration of January 31, 2000:

Chesterfield, Darlington, Kershaw, Lancaster, Laurens, Newberry, and Spartanburg Counties for road systems (Category C) under Public Assistance (already designated for debris removal (Category A), emergency protective measures (Category B), and utilities (Category F) under Public Assistance).

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program.)

Robert J. Adamcik,
Deputy Associate Director, Response and Recovery Directorate.

[FR Doc. 00-4819 Filed 2-29-00; 8:45 am]

BILLING CODE 6718-02-P